DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Admittance to Practice.

Agency Approval Number: 0651-0012.

Type of Request: Revision of a currently approved collection.

Burden: 34,773 hours annually.

Number of Respondents: 21,860 responses per year.

Avg. Hours per Response: The USPTO estimates that it will take the public approximately 3 minutes (0.05 hours) to 40 hours to prepare the appropriate form or documents and submit to the USPTO.

Needs and Uses: The OED director uses the information in this collection to determine whether the applicate is of good moral character and repute; has the necessary legal, scientific, and technical qualifications; and is otherwise competent to advise and assist applicants in the presentation and prosecution of patent applications.

The USPTO uses applicate information in determining whether an applicant may be added to, or an existing practitioner may remain on, the Register of Patent Attorneys and Agents.

Affected Public: Businesses or other for-profit organizations.

Frequency: On occasion.

Respondent's Obligation: Required to obtain or retain benefits.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651-0012 copy request” in the subject line of the message.

• Mail: Margaret McElrath, Deputy Director, Office of Information Management Services, Office of the Chief Information Officer, United States Patent and Trademark Office, P.O. Box 1450, Alexandria, VA 22313-1450.

Written comments and recommendations for the proposed information collection should be sent on or before October 8, 2014 to Nicholas A. Fraser, OMB Desk Officer, via email to Nicholas_A._Fraser@omb.eop.gov, or by fax to 202-395-5167, marked to the attention of Nicholas A. Fraser.

Dated: September 2, 2014.
Margaret McElrath,
Deputy Director, Office of Information Management Services, Office of the Chief Information Officer.

[FR Doc. 2014-21274 Filed 9-5-14; 8:45 am]

BILLING CODE 3510-16-P